DEPARTMENT OF TRANSPORTATION

Federal Aviation Administration

14 CFR Part 71

[Docket No. FAA-2011-0116; Airspace Docket No. 11-ANE-1]

Establishment of Class E Airspace; Brunswick, ME

AGENCY: Federal Aviation Administration (FAA), DOT.

ACTION: Final rule; correction.

SUMMARY: This action corrects the effective date of a final rule that was published in the Federal Register on June 22, 2011, that establishes Class E airspace at Brunswick Executive Airport, Brunswick, ME.

DATES: The effective date is moved from 0901 UTC, August 25, 2011, to 0901 UTC, July 28, 2011.

FOR FURTHER INFORMATION CONTACT: John Fornito, Operations Support Group, Eastern Service Center, Federal Aviation Administration, P.O. Box 20636, Atlanta, Georgia 30320; telephone (404) 305-6364.

SUPPLEMENTARY INFORMATION:

History

Federal Register Docket No. FAA-2011-0116, Airspace Docket No. 11-ANE-1, published on June 22, 2011 (76 FR 36285), establishes Class E airspace at Brunswick Executive Airport, Brunswick, ME. This action will move up the effective date of this rulemaking, as the new approach procedures are to be published July 28, 2011. The original August 25, 2011, effective date was an oversight by the FAA. The FAA has determined good cause exists to have an effective date less than 30 days after the publication of this final rule because of the financial hardship the airport and its employees would incur with a delay of this magnitude.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, would not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part, A, Subpart I, Section 40103. Under that section, the FAA is charged with prescribing regulations to assign the use of airspace necessary to ensure the safety of aircraft and the efficient use of airspace. This regulation is within the scope of that authority as it establishes Class E airspace at Brunswick Executive Airport, Brunswick, ME.

Correction to Final Rule

In final rule FR Doc 2011-15305, on page 36285 in the Federal Register of June 22, 2011 (76 FR 36285), make the following correction:

On page 36285, in the third column, in the DATES section, remove the date August 28, 2011, and replace with the date July 25, 2011.

Authority: 49 U.S.C. 106(g); 40103, 40113, 40120; E.O. 10854, 24 FR 9565, 3 CFR, 1959-1963 Comp., p. 389.

Issued in Washington, DC, on June 28, 2011.
Rebecca B. MacPherson,
Assistant Chief Counsel for Regulations.

[FR Doc. 2011-16783 Filed 7-5-11; 8:45 am]

BILLING CODE 4910-13-P